DEPARTMENT OF ENERGY

Federal Energy Regulatory Commission

[Project No. 184-244]

El Dorado Irrigation District; Notice of Application Accepted for Filing, Soliciting Motions To Intervene and Protests, Ready for Environmental Analysis, and Soliciting Comments, Recommendations, Terms and Conditions, and Fishway Prescriptions

Take notice that the following hydroelectric application has been filed with the Commission and is available for public inspection:

a. Application Type: Amendment of license.

b. Project No.: 184-244.

c. Date Filed: June 5, 2014.

d. Applicant: El Dorado Irrigation District.

e. Name of Project: El Dorado Forebay Dam Modification Project.

f. Location: The project is located on the El Dorado Forebay, an off-stream reservoir, within the South Fork American River Basin, near the town of Pollock Pines in El Dorado, Amador and Alpine Counties, California.

g. Filed Pursuant to: Federal Power Act, 16 U.S.C. 791a-825r.

h. Applicant Contact: Mr. Brian Mueller, P.E., Director of Engineering, El Dorado Irrigation District, 2890 Mosquito Road, Placerville, CA 95667, telephone (530) 622-4513, and email address: bmueller@eid.org.

i. FERC Contact: CarLisa Linton-Peters, telephone: (202) 502-8416, and email address: Carlisa.linton-peters@ferc.gov.

j. Deadline for filing motions to intervene and protests, comments, recommendations, terms and conditions, and fishway prescriptions is 60 days from the issuance date of this notice by the Commission. Reply comments are due 105 days from the issuance date of this notice by the Commission. All documents (original and eight copies) should be filed with: Secretary, Federal Energy Regulatory Commission, 888 First Street NE., Washington, DC 20426. Please include the project number (P-184-244) on any comments or motions filed.

k. Description of Request: El Dorado Irrigation District (licensee) proposes to remediate the El Dorado Forebay Dam and its associated facilities in order to meet dam safety requirements, as required by the Commission's Division of Dam Safety and Inspections and the California Department of Water Resources, Division of Safety of Dams. The proposed action is a non-capacity license amendment. The proposed action would include: (1) Constructing an earthen stability buttress on the dry side of the El Dorado dam; (2) raising the crest of the dam 10 vertical feet; and (3) upgrading appurtenant facilities. The proposed project would also involve increasing the normal maximum reservoir elevations and optimizing full reservoir operation use to improve the reliability of the existing drinking water system and to minimize impacts to the licensee's ratepayers through increased hydroelectric power revenues.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must (1) bear in all capital letters the title “PROTEST”, “MOTION TO INTERVENE”, “COMMENTS,” “REPLY COMMENTS,” “RECOMMENDATIONS,” ” TERMS AND CONDITIONS,” or “FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). All comments, recommendations, terms and conditions or prescriptions should relate to project works which are the subject of the license amendment. Agencies may obtain copies of the application directly from the applicant (see item (h)). A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

p. As provided for in 18 CFR 4.34(b)(5)(i), a license applicant must file, no later than 60 days following the date of issuance of this notice of acceptance and ready for environmental analysis: (1) A copy of the water quality certification; (2) a copy of the request for certification, including proof of the date on which the certifying agency received the request; or (3) evidence of waiver of water quality certification.

q. e-Filing: Motions to intervene, protests, comments, recommendations, terms and conditions, and fishway prescriptions may be filed electronically via the Internet in lieu of paper. See, 18 CFR 385.2001(a)(1)(iii) and the instructions on the Commission's Web site at http://www.ferc.gov under the “e Filing” link.

Dated: August 4, 2014.
Kimberly D. Bose,
Secretary.

[FR Doc. 2014-18888 Filed 8-8-14; 8:45 am]

BILLING CODE 6717-01-P